DEPARTMENT OF COMMERCE

Bureau of the Census

[Docket Number 170824806-7806-01]

Proposed Content for the Prototype 2020 Census Redistricting Data File

AGENCY: Bureau of the Census, Department of Commerce.

ACTION: Notice and request for comment.

SUMMARY: The 2020 Census Redistricting Data Program provides states the opportunity to specify the small geographic areas for which they wish to receive 2020 decennial population totals for the purpose of reapportionment and redistricting. This notice pertains to Phase 3, the Data Delivery phase of the program, as the U.S. Census Bureau is providing notification and requesting comment on the content of the prototype 2020 Census Redistricting Data File that will be produced from the 2018 End-to-End Census Test. The Census Bureau anticipates publishing the content for the prototype 2020 Census Redistricting Data File from the 2018 End-to-End Census Test in the second quarter of fiscal year 2018 in a final notice. In that final notice, the Census Bureau also will respond to the comments received on this notice.

DATES: Comments on this notice must be received by January 8, 2018.

ADDRESSES: Please address all written comments to James Whitehorne, Chief of the Census Redistricting and Voting Rights Data Office, U.S. Census Bureau, 4600 Silver Hill Road, Room 4H057, Washington, DC 20233.

FOR FURTHER INFORMATION CONTACT: James Whitehorne, Chief of the Census Redistricting and Voting Rights Data Office, U.S. Census Bureau, 4600 Silver Hill Road, Room 4H057, Washington, DC 20233, Telephone (301) 763-4039, or by email at rdo@census.gov.

SUPPLEMENTARY INFORMATION: Under the provisions of Public Law 94-171, as amended (Title 13, United States Code (U.S.C.), Section 141(c)), the Director of the Census Bureau is required to provide the “officers or public bodies with initial responsibility for legislative apportionment or districting of each state. . .” with the opportunity to specify small geographic areas (e.g., census blocks, voting districts, wards, and election precincts) for which they wish to receive decennial census population totals for the purpose of reapportionment and redistricting.

By April 1 of the year following the census, the Secretary of Commerce is required to furnish those state officials or their designees with population counts for counties, cities, census blocks, and state-specified congressional districts, legislative districts, and voting districts.

In accordance with the provisions of Title 13, U.S.C. 141(c), and on behalf of the Secretary of Commerce, the U.S. Census Bureau Director requests comment on the proposed content of the required population counts being produced as part of Phase 3 of the 2020 Census Redistricting Data Program.

The 2020 Census Redistricting Data Program was initially announced on July 15, 2014, in the Federal Register (79 FR 41258). This notice described the program that the Census Bureau proposed to adopt for the 2020 Census. As seen in the 1990, 2000, and 2010 censuses, the 2020 Census Redistricting Data Program is partitioned into several phases. Phase 1, the Block Boundary Suggestion Project, was announced in a Federal Register notice on June 26, 2015 (80 FR 36765). This notice described the procedures for the states to provide the Census Bureau with their suggestions for the 2020 Census tabulation block inventory. Phase 2, the Voting District Project, was announced in a Federal Register notice on June 28, 2017 (82 FR 29276). This second phase specifically provides states the opportunity to provide the Census Bureau with their voting district boundaries (election precincts, wards, etc.). Phase 3 of the 2020 Redistricting Data Program is data delivery.

The Census Bureau will produce, in preparation for Phase 3, a prototype 2020 Census Public Law 94-171 Redistricting Data File from the 2018 End-to-End Census Test. This prototype product will be delivered to official recipients and the public in early 2019. The content of this prototype product, which includes population counts by race and ethnicity, is meant to simulate the official product that will be produced as the 2020 Census Public Law 94-171 Redistricting Data File, delivered in early 2021. This prototype should not be interpreted, however, as signifying that a design decision for collecting race and ethnicity data has been made for the 2020 Census.

The U.S. Office of Management and Budget (OMB) is currently reviewing proposed revisions to the Standards for Maintaining, Collecting, and Presenting Federal Data on Race and Ethnicity. OMB will announce their decision on making any changes to the standards in the Federal Register later this year. These standards will inform how the Census Bureau collects and publishes race/ethnicity data for the 2020 Census. More information on OMB's review is available on https://www.whitehouse.gov/sites/whitehouse.gov/files/briefing-room/presidential-actions/related-omb-material/r_e_iwg_faqs_and_talking_points_032917.pdf.

One of the potential changes being decided by OMB is question format, specifically the use of two separate questions or a combined question for race/ethnicity data. In the 2010 Census, race/ethnicity data were collected using a two separate questions approach. Consequently, the Census Bureau has experience and is prepared to produce statistics on race/ethnicity in that format. Should the use of a combined race/ethnicity question be allowed under the as yet to be released guidance from OMB, the Census Bureau must be prepared to produce race/ethnicity statistics with the combined question format. Therefore, the current design for the prototype 2020 Census Public Law 94-171 Redistricting Data File reflects the combined question format, and alters the design of that produced as the official 2010 Census Public Law 94-171 Redistricting Data File. If only a separate questions format is permitted under the as yet to be released guidance from OMB, then the 2020 Census Public Law 94-171 Redistricting Data File will mirror that of the 2010 Census Public Law 94-171 Redistricting Data File, with the addition of the group quarters table described below. If a combined question format is permitted under the revised OMB standards, then the design for the 2020 Census Public Law 94-171 Redistricting Data File will mirror that of the prototype 2020 Census Public Law 94-171 Redistricting Data File.

Regardless of whether a separate or combined question format is used in the 2020 Census, to assist those states that reallocate populations prior to conducting redistricting, a group quarters table is added. This table will include the group quarters categories of: Institutionalized populations (correctional facilities for adults, juvenile facilities, nursing facilities/skilled nursing facilities, and other institutional facilities) and noninstitutionalized populations (college/university student housing, military quarters, and other non-institutionalized facilities). The group quarters table will include state, county, county sub-division, voting district, tract, and block geographic levels for the total population in the group quarters count. A schematic of the tables planned for the prototype 2020 Census Public Law 94-171 Redistricting File is available at the Census Bureau's FTP site: https://www2.census.gov/programs-surveys/decennial/rdo/about/2020-census-program/Phase3/Phase3_prototype_schematic.pdf.

This notice requests comment on these changes and the continued suitability of these data in redistricting. Other potential changes to the OMB guidance on the collection and tabulation of Race and Ethnicity announced in the Federal Register later this year may necessitate changes to the prototype product beyond those proposed here. The Census Bureau will announce any respective revisions in a forthcoming, final Federal Register notice in the second quarter of fiscal year 2018.

The Census Bureau will continue to communicate with each state to ensure all are well informed of the benefits of working with the Census Bureau towards a successful 2020 Census. In addition, the Census Redistricting and Voting Rights Data Office will continue to work with each state to ensure that all are prepared to participate in every phase of the Redistricting Data Program. As required by Public Law 94-171, every state, regardless of its participation in Phase 1 or Phase 2, will receive the official redistricting data in Phase 3.

Dated: November 2, 2017.
Ron S. Jarmin,
Associate Director for Economic Programs, Performing the Non-Exclusive Functions and Duties of the Director, Bureau of the Census.

[FR Doc. 2017-24242 Filed 11-7-17; 8:45 am]

BILLING CODE 3510-07-P